SECURITIES AND EXCHANGE COMMISSION

[Release No. 34-45924; File No. SR-CHX-2002-13]

Self-Regulatory Organizations; Notice of Filing and Immediate Effectiveness of a Proposed Rule Change by the Chicago Stock Exchange, Incorporated Relating to Membership Dues and Fees

May 14, 2002.

Pursuant to section 19(b)(1) of the Securities Exchange Act of 1934 (“Act”)¹ and Rule 19b-4 thereunder,² notice hereby is given that on April 26, 2002, the Chicago Stock Exchange, Incorporated (“CHX” or “Exchange”) filed with the Securities and Exchange Commission (“Commission” or “SEC”) the proposed rule change as described in Items I, II and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend a provision of its membership dues and fees schedule (the “Schedule”) governing assessment of transaction fees. The text of the proposed rule change follows. Proposed new language is italicized; proposed deletions are in brackets.

Membership Dues and Fees

* * * * *

F. Transaction and Order Processing Fees

* * * * *

6. Transaction Fees

* * * * *

e. In Nasdaq/NM securities, a[A]gency executions [orders in NASDAQ/NM securities] executed through a floor broker and market maker executions.

f. In Dual Trading System issues, a[A]gency executions [orders in Dual Trading System Securities] executed through a floor broker and market maker executions.

g. All other MAX orders.

II. Self-Regulatory Organization's Statement of the Purpose of, and Statutory Basis for, the Proposed Rule Change

In its filing with the Commission, the Exchange included statements concerning the purpose of, and basis for, the proposed rule change and discussed any comments it received on the proposed rule change. The text of these statements may be examined at the places specified in Item IV below. The Exchange has prepared summaries, set forth in Sections A, B, and C below, of the most significant aspects of such statements.

A. Self-Regulatory Organization's Statement of the Purpose of, and Statutory Basis for, the Proposed Rule Change

1. Purpose

The Exchange proposes to amend a provision of the Schedule governing assessment of transaction fees. The Schedule contains provisions assessing various transaction fees and order processing fees. Transaction fees are assessed based on factors including (a) the type of order executed on the Exchange, and (b) the type of member that facilitates execution of the order on the Exchange.

A previous change to the provisions governing transaction fees was intended to provide for a transaction fee applicable to certain manual orders that are not executed by a specialist, i.e., agency orders executed through a floor broker or executions by a market maker. The Exchange believes that it is appropriate to edit this provision to reflect the intent that the provision applies to all manual orders not executed by a specialist (other than executions by floor brokers in their capacity as principals). Significantly, the proposed edit set forth in Exhibit A reflects current billing practice; the change to the fee schedule thus will not result in assessment of any additional transaction fees.

In addition, the Exchange proposed to clarify that the catch-all provision governing transaction fees, subsection g., only applied to all other “MAX” orders.³

³ Telephone call between Ellen Neely, Senior Vice President and General Counsel, CHX, and Jennifer Lewis, Attorney, Division of Market Regulation, Commission, on May 9, 2002.

2. Statutory Basis

The Exchange believes that the proposed rule change is consistent with Section 6(b) of the Act,⁴ in general, and furthers the objectives of Section 6(b)(4),⁵ in particular, because it provides for the equitable allocation of reasonable dues, fees and other charges among its members.

⁴ 15 U.S.C. 78f(b).

⁵ 15 U.S.C. 78f(b)(4).

B. Self-Regulatory Organization's Statement on Burden on Competition

The Exchange does not believe that the proposed rule change will impose any inappropriate burden on competition.

C. Self-Regulatory Organization's Statement on Comments on the Proposed Rule Change Received From Members, Participants, or Others

No written comments were solicited or received by the Exchange relating to this submission.⁶

⁶ At the request of CHX, this sentence was revised to clarify that the Exchange did not solicit comment from its members. Telephone call between Florence E. Harmon, Senior Special Counsel, Division of Market Regulation, Commission, and Ellen Neely, Senior Vice President and General Counsel, CHX, on May 14, 2002.

III. Date of Effectiveness of the Proposed Rule Change and Timing for Commission Action

The Exchange has designated the proposed rule change as a fee change pursuant to Section 19(b)(3)(A)(ii) of the Act ⁷ and Rule 19b-4(f)(2) thereunder.⁸ Accordingly, the proposal will take effect upon filing with the Commission. At any time within 60 days of the filing of the proposed rule change, the Commission may summarily abrogate such rule change if it appears to the Commission that such action is necessary or appropriate in the public interest, for the protection of investors, or otherwise in furtherance of the purpose of the Act.

⁷ 15 U.S.C. 78f(b).

⁸ 15 U.S.C. 78f(b)(4).

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying at the Commission's Public Reference Room. Copies of such filing will also be available for inspection and copying at the principal office of the CHX. All submissions should refer to File No. SR-CHX-2002-13 and should be submitted by June 10, 2002.

For the Commission, by the Division of Market Regulation, pursuant to delegated authority.⁹
⁹ 17 CFR 200.30-3(a)(12).
Jill M. Peterson,
Assistant Secretary.

[FR Doc. 02-12569 Filed 5-17-02; 8:45 am]

BILLING CODE 8010-01-P